DEPARTMENT OF TRANSPORTATION

Federal Highway Administration

Environmental Impact Statement: Los Angeles County, CA

AGENCY: Federal Highway Administration, DOT.

ACTION: Notice of intent.

SUMMARY: The FHWA is issuing this notice to advise the public that an Environmental Impact Statement (EIS) will be prepared for a proposed highway project in Los Angeles County, California.

FOR FURTHER INFORMATION CONTACT: Cesar Perez, Senior Transportation Engineer, Federal Highway Administration, California Division, 980 Ninth Street, Suite 400 Sacramento, CA 95814-2724, Telephone: (916) 498-5860.

SUPPLEMENTARY INFORMATION: The FHWA, in cooperation with the California Department of Transportation (Caltrans), will prepare an Environmental Impact Statement (EIS) on a proposal to improve Interstate Route 405 (I-405) in Los Angeles County. The proposed action involves the construction of a High Occupancy Vehicle (HOV) lane, in the northbound direction, between just south of the Interstate Route 10 (I-10) Connector and Greenleaf Street, a distance of approximately 10 miles. The proposed project may require additional ROW as well as possible entrance/exit ramp reconfigurations and/or closures. The purpose of the proposed project is considered necessary to provide continuity and connectivity in the Regional HOV system, alleviate traffic congestion, improve mobility, access, and goods movement on the I-405 freeway in the Los Angeles County area. Alternatives under consideration include:

Alternative 1: No Build Alternative.

Alternative 2: The widening of the existing facility to add a northbound HOV lane.

Alternative 3: The widening of the existing facility to add a northbound HOV lane and restore southbound freeway lane and shoulder widths to current design standards.

Alternative 4: The widening of the existing facility to provide for four HOV lanes (two each, both northbound and southbound) on an elevated viaduct, within the freeway median, throughout and project limits.

Alternative 5: Transit Enhancement Alternative. This would involve design features that would facilitate increased transit use in the corridor.

Alternative 6: Transportation Systems Management/Transportation Demand Management. These basic alternatives may have additional design variations at specific locations in response to social, economic and environmental impacts of extraordinary magnitude, which may be identified during upcoming studies and analysis. Note: As required by the National Environmental Policy Act (NEPA), all other reasonable alternatives will be considered. These alternatives may be refined, combined with various different alternative elements, or be removed from further consideration, as more analysis is conducted on the project alternatives.

Letters describing the proposed action and soliciting comments are being sent to appropriate Federal, State, and local agencies, and to private organizations and citizens who have previously expressed or are known to have interest in this proposal. An agency scoping meeting will be held on January 16, 2002, at 3 pm, at the Veterans Administration 11301 Wilshire Boulevard. In addition, initial scoping meetings, for the general public, will be held on January 16, 2002, at the Veterans Administration 11301 Wilshire Boulevard, from 6 pm to 8 pm, and on January 17, 2002, at the Radisson Hotel 15433 Ventura Blvd, Sherman Oaks, from 6 pm to 8 pm. Additional public notice will be given of the time and place of these meetings.

Public meetings will be held after the draft EIS is completed. Public notice will be given of the time and place of the meetings. The draft EIS will be available for public and agency review and comment prior to the formal public hearing(s).

To ensure that the full range of issues related to the proposed routes are addressed and all significant issues identified, comments and suggestions are invited from all interested parties. Comments or questions concerning this proposed action and the EIS should be directed to the FHWA at the addressed provided above.

(Catalog of Federal Assistance Program Number 20.205, Highway Planning, and Construction. The regulations implementing Executive Order 12372 regarding intergovernmental consultation on Federal programs and activities apply to this program.

Issued on: December 27, 2001.
Cesar E. Perez,
Senior Transportation Engineer, Program Delivery Team-South, Sacramento, California.

[FR Doc. 02-41 Filed 1-4-02; 8:45 am]

BILLING CODE 4910-22-M